DEPARTMENT OF TRANSPORTATION

Maritime Administration

[Docket Number MARAD-2015-0051]

Policy Announcement; Merchant Marine Awards and Flags Program

AGENCY: Maritime Administration, Department of Transportation.

ACTION: Notice.

SUMMARY: This notice serves to inform interested parties and the public of the Maritime Administration's (MARAD) new policy for the issuance of Merchant Marine medals, decorations, citations, and the donation or loan of Merchant Marine flags. Consistent with Public Law 84-759, 46 CFR part 350, and upon analysis and review of established criteria, the Maritime Administration will issue certain awards, and/or donate or loan Merchant Marine flags, for the purpose of honoring the historic and or continuing contributions of Merchant Mariners to the United States. This policy updates MARAD procedures to implementing regulations 46 CFR part 350 by defining the role of the Merchant Marine Awards and Flags Committee, and articulating the criteria for awards and other official recognition.

DATES: This policy is effective upon publication in the Federal Register. (See also Paperwork Reduction Act section.)

ADDRESSES: The complete file for this policy is available for inspection with the Docket Clerk, Docket Management Facility, U.S. Department of Transportation, 1200 New Jersey Avenue SE., West Building, Room W12-140, Washington, DC 20590, between 9 a.m. and 5 p.m., Monday through Friday, except on Federal holidays.

FOR FURTHER INFORMATION CONTACT: You may contact Bill Kurfehs, Office of Sealift Support, Maritime Administration, at (202) 366-2318. You may send mail to Mr. Kurfehs at Maritime Administration, 1200 New Jersey Avenue SE., MAR 630, Washington, DC 20590-0001. You may send electronic mail to Bill.Kurfehs@dot.gov. If you have questions on viewing the Docket, call Cheryl Collins, Program Manager, Docket Operations, telephone: (800) 647-5527.

SUPPLEMENTARY INFORMATION: The promotion of the United States Merchant Marine is a central mission of MARAD. The Merchant Marine Act of 1936 was enacted to promote a well-equipped and efficient merchant marine fleet owned and operated by United States citizens and supported by domestic shipbuilding and repair facilities.¹ MARAD was specifically formed as a separate maritime promotional entity from the Federal Maritime Commission to ensure that maritime promotional and regulatory functions were handled by different Federal agencies.² The Message of the President transmitting Plan 7 states that the “basic objective of the plan is to strengthen and revitalize the administration of our Federal programs concerned with the promotion and development of the U.S. Merchant Marine by concentrating responsibility in separate agencies for the performance of regulatory and promotional functions.”

¹ American Trading Transportation Company, Inc. v. United States, 791 F.2d 942, 944 (D.C. Cir. 1986).

² Reorganization Plan No. 7 of 1961, 75 Stat. 840 (August 12, 1961).

It is central to MARAD's promotional mission to encourage citizens of the United States to join the United States Merchant Marine and to see that these individuals are trained to operate the vessels of the United States. To this end, MARAD operates the United States Merchant Marine Academy, supports and helps fund training at State Maritime Academies, provides certain property to support nonprofit and other maritime training institutions, and generally provides maritime training to citizens of the United States.

Pursuant to 46 U.S.C. Chapter 519, authority also has been given to MARAD to provide Merchant Marine Awards. Such awards may be for individual acts or service in the Merchant Marine, for vessels and crews participating in outstanding or gallant action, certificates for civilian service, and for flags and grave markers.

By this policy, MARAD will act to recognize the role of the Merchant Mariners of the United States in providing for the national defense. Recognizing the contributions, value, and sacrifices of Merchant Mariners advances MARAD's mission of ensuring that new individuals will become Merchant Mariners and that those capabilities will be available to address the Nation's needs in the future. This recognition will remind the public of the hard work and dedication of the Merchant Mariners of the United States and in doing so promote the interests and mission of MARAD; particularly recruiting and maintaining a vital Merchant Marine workforce to ensure the stability and maintenance of the United States Merchant Marine.

Maritime Administration Merchant Marine Awards and Recognition Policy

This policy describes the process through which the Maritime Administration (MARAD) will exercise its authority under Public Law 84-759, 46 CFR part 350 to issue certain Merchant Marine awards.

Maritime Administration (MARAD) Merchant Marine Awards and Flags Program

The Merchant Marine Awards and Flags Committee is established to make recommendations to the Maritime Administrator for the issuance of Merchant Marine medals, decorations, and citations. The committee is also established to make recommendations to the Maritime Administrator to donate or loan Merchant Marine flags to qualifying organizations.

A. The Merchant Marine Awards and Flags Committee Responsibilities

1. Receive nominations, through the Director, Office of Ship Operations, from any individual or entity, including individual members of the Committee, that properly addresses award evaluation criteria; and

2. Review nominations and make recommendations to the Maritime Administrator with respect to giving or loaning Merchant Marine flags to any qualifying organization and the award of any awards, medals, decorations, etc., authorized to be issued by the Maritime Administration (MARAD) by Public Law 84-759, and 46 CFR part 350.

B. Awards—The Issuance of Medals, Decorations and Citations

Criteria for Issuance

1. Gallant Ship Unit Citation Award may be awarded to any United States vessel or to any foreign vessel (merchant, Coast Guard, Navy, or other), crew of that ship or other individuals or organizations participating in outstanding or gallant action in marine disasters or other emergencies for the purpose of saving life or property when the following circumstances are present:

(a) The vessel itself should move to the rescue and not be simply the platform from which crew members perform a rescue operation;

(b) The operation should encompass the maneuvers of the vessel and a substantial part of the personnel;

(c) The operation should involve either the use of the lifeboats by the crew taking to the water to effect a rescue with the vessel in some danger; or the vessel itself, by reason of perilous circumstances, should be in considerable danger;

(d) The conditions should be such that danger to the vessel or the lifeboat or the crew members is present; and

(e) The operation of the ship, its equipment, and personnel should favorably reflect efficiency, discipline and expertness.

2. Merchant Marine Meritorious Service Medal may be awarded to any person serving in the U.S. Merchant Marine for meritorious act, conduct or service in line of duty when the following circumstances are present:

(a) A Master of a U.S. merchant ship (without separate action) when that vessel is granted the Gallant Ship Award;

(b) An act of heroism, bravery, devotion to duty involving extreme danger (actual or perceived);

(c) The act, if it involves lifesaving, should be generally one performed while the vessel is at sea and not in a harbor, at the dock, or otherwise idle;

(d) The act may be at sea or in port if it involves an effort directed toward saving the vessel or the cargo; and

(e) The act should be one not directly entitling the individual to other medals such as the Carnegie Medal, the Coast Guard Medal for Lifesaving, etc. Merchant Marine Distinguished Service Medal may be awarded to any person serving in the U.S. Merchant Marine who distinguished himself or herself by outstanding act, conduct, or valor beyond the line of duty when the following circumstances are present:

(f) Extreme peril to the life or safety of the individual attempting the rescue action;

(g) It must be considered as going beyond the call of duty;

(h) It must involve the activity of the Merchant Marine so that it is distinguished from a saving of life or property where the vessel is solely a platform from which the individual moved or upon which the individual acted; and

(i) The accomplishment or the attempt must involve human lives or something of considerable worth either actual or considered so in the mind of the individual performing the action.

3. The Mariners Medal is awarded to a mariner who, while serving from December 7, 1941 and July 25, 1947, was wounded or suffered physical injures as result of an act of an enemy of the United States.

4. For World War II mariners who sailed in various war zones:

(a) The Atlantic War Zone Medal and bar are awarded for service in the Atlantic war zone, including the North Atlantic, South Atlantic, Gulf of Mexico, Caribbean, Barents Sea and the Greenland Sea, during the period from December 7, 1941 to November 8, 1945;

(b) The Mediterranean-Middle East War Zone Medal and bar are awarded for service in the zone including the Mediterranean Sea, Red Sea, Arabian Sea and the Indian Ocean west of 80 degrees east longitude, during the period from December 7, 1941 to November 8, 1945;

(c) The Pacific War Zone Medal and bar are awarded for service in the Pacific War Zone, including the North Pacific, South Pacific and the Indian Ocean east of 80 degrees east longitude during the period from December 7, 1941 to March 2, 1946;

(d) The Merchant Marine Combat Bar is awarded to Merchant Mariners who served on a vessel which at the time of such service was attacked or damaged by an instrumentality of war from December 7, 1941 to July 25, 1947. A star is attached if the mariner was forced to abandon ship. For each additional abandonment, a star is added;

(e) The Victory Medal with bar are awarded to members of the crew of vessels who served for 30 days or more during the period from December 7, 1941 to September 3, 1945;

(f) The Honorable Service Button is awarded to members of crews of vessels who served for 30 days during the period from December 7, 1941 to September 3, 1945;

(g) The Merchant Marine Emblem is an identifying insignia that was issued to active Merchant Mariners for service from December 7, 1941 to July 25, 1947;

(h) The Presidential Testimonial Letter signed by President Harry S. Truman was awarded to all active Merchant Mariners of World War II;

(i) The Government of the Philippines authorized the Philippine Defense Medal/Ribbon and Philippine Liberation Medal to members of crews of vessels who served in Philippine waters. The Philippine Defense Medal is awarded to members of crews who served in Philippine waters for not less than 30 days from December 8, 1941 to June 15, 1942. The Philippine Liberation Medal is awarded to members of crews who served in Philippine waters for not less than 30 days from October 17, 1944 to September 3, 1945; and

(j) The Soviet Commemorative Medal was awarded to Merchant Mariners who participated in convoys to Murmansk during World War II.

5. Korea Service Medal and bar: For Merchant Mariners who sailed during the Korean War, the Maritime Administration has authorized the Korean Service Medal and bar to be awarded to mariners who served in the Merchant Marine in waters adjacent to Korea between June 30, 1950 and September 30, 1953.

6. Vietnam Service Medal and bar: For Merchant Mariners who sailed during the Vietnam conflict who served in the Merchant Marine at any time from July 4, 1965 to August 15, 1973 in waters adjacent to Vietnam.

7. Merchant Marine Expeditionary Medal: Established in 1990 to recognize U.S. Merchant Mariners who served on U.S.-flag ships in support of U.S. military and allied forces. This medal was first for service in Operations DESERT SHIELD and DESERT STORM. The medal is also authorized for mariners who served in Operations ENDURING FREEDOM and IRAQI FREEDOM.

8. Merchant Marine Medal for Outstanding Achievement: The Merchant Marine Medal for Outstanding Achievement is an award given to mariners or other individuals making a significant contribution to the U.S. Merchant Marine or the maritime industry of the United States. The medal may be awarded by the Maritime Administrator for any activities that he/she finds to be an outstanding maritime achievement. For example, the medal may be awarded to recognize mariners or other individuals for maritime activities of a humanitarian nature. The medal also may be awarded to recognize those individuals in the maritime industry and educational community for their outstanding achievements and contributions to the U.S. Merchant Marine or the maritime industry of the United States. Individuals making significant contributions to fostering, developing and promoting the U.S. Merchant Marine or the maritime industries of the United States also are eligible for the award.

9. The Administrator's Professional Ship Award is intended to recognize National Defense Reserve Fleet (“NDRF”) vessels, crews, ship managers, general agents and related contractors and other related personnel that achieve the highest degree of readiness, performance, efficiency, reliability, productivity and safety, or that have distinguished themselves through outstanding accomplishment or significant mission contribution in connection with NDRF missions;

(a) Each vessel, individual, or other entity approved for this award will receive a commendation letter from the Maritime Administrator and a certificate. The certificate will be inscribed with the name of the ship and the operation or other activity for which the award was earned and signed by the Administrator;

(b) With respect to an award given to an NDRF vessel, the certificate will be framed and forwarded to the appropriate Ship Manager/General Agent to be mounted in the master's office or other appropriate area on the vessel; and

(c) Awards will be based on demonstrated and sustained superior performance in fulfilling the vessel's assigned mission. Information will be considered from all sources (e.g., reports from program sponsors, Gateway Offices, operational commanders, MARAD surveyors' observations, etc.).

10. Additional awards:

(a) The Maritime Administrator may determine to create award categories in addition to the awards set forth above.

(b) The Awards Committee may recommend to the Maritime Administrator such additional award categories as it deems appropriate.

(c) Any recommendation and establishment of a new award category shall contain the following:

i. A specific title for the award;

ii. A description of what would be awarded; (i.e. medal, plaque, certificate)

iii. Detailed criteria as to what is necessary to qualify for such award; and

iv. A determination by the Office of Chief Counsel that such an award category is within the authority under Public Law 84-759 and 46 CFR part 350 or this MAO.

(d) All such new award categories shall be published in the Code of Federal Regulations and on MARAD's Web site.

(e) In any case of a proposed award or citation to a foreign vessel or to a master or person serving aboard such vessel, such award or citation shall be subject to the concurrence of the Secretary of State.

C. Other Recognition—The Donation or Loan of Merchant Marine Flags

In times of war and national emergency, the Merchant Mariners of the United States have played a critical role in the transportation system that supports and serves with the armed forces of the United States. Termed the “fourth arm” of defense by President Franklin D. Roosevelt, the mariners of the United States provide vital transportation of critical personnel and materials to the appropriate locations in support of the national defense and emergency response efforts of the United States.

MARAD receives requests for Merchant Marine flags and logos from organizations that wish to honor the historic and continuing contributions of Merchant Mariners to the United States. MARAD also has received requests for Merchant Marine flags and logos from various educational organizations that perform maritime training.

Honoring the historic and continuing contributions of Merchant Mariners supports MARAD's mission. Providing these flags, and displaying them with the flags of the U.S. Armed Forces, recognizes the role Merchant Mariners have played and continue to play in the national defense of the United States. In recognizing the achievements and importance of the service of U.S. Merchant Mariners, the displays will enhance public awareness of the United States Merchant Marine as a career path for citizens of the U.S. and focus individuals considering such careers on the importance and value of the work they would do as Merchant Mariners. This recognition will serve to underscore the dignity and significance of the U.S. Merchant Marine as a whole. In addition, such flags will remind those training to be Merchant Mariners that they are part of a long tradition and profession whose mission goes beyond individual gain in support of the highest principles of public service.

Merchant Marine flags are neither gifts nor awards for individuals. Their purpose is to recognize and memorialize the past and continuing role and contribution of the Merchant Mariners of the United States.

The Merchant Marine Awards and Flag Committee will make recommendations to the Maritime Administrator regarding which groups satisfy the criteria set forth below and whether it should receive either the donation or a loan of the Merchant Marine flag and under what terms and conditions.

Criteria for the Donation or Loan of Merchant Marine Flags

Merchant Marine flags may only be donated or loaned to the following groups:

1. Public entities, or civic organizations in the United States qualified under United States Code, Title 26, section 501(c)(3), which at the location in which the Merchant Marine flag would be displayed have, at the time of application, at least 100 members and host visits by at least 2,500 other members of the public annually in that location; and, at the time of application, publicly display the United States flag and the flag of at least one United States military service.

2. Educational institutions providing maritime training that would lead to a career in the United States Merchant Marine.

3. Institutions qualified to receive donated property under 46 U.S.C. 51103.

4. Non-profit organizations as defined by Section 501(c) of the United States Internal Revenue Code (26 U.S.C. 501(c)), memorial/museum ships, and public bodies that:

(a) Are registered with the Internal Revenue Service as a non-profit organization;

(b) Are open to the public, or have and will display the flags in publicly accessible areas; and

(c) Possess an educational, maritime, or civic mission.

5. Federal, State or local government entities that will display the flags in publicly accessible areas.

6. Cemeteries or other locations at which U.S. Merchant Mariners are buried and where the Merchant Marine flag will be displayed with the flags of at least one other of the Armed Forces of the United States.

Policy Analysis and Notices

Consistent with the Administrative Procedures Act and Department of Transportation rulemaking policy, MARAD is publishing this policy in the Federal Register to indicate how it plans to exercise the discretionary authority provided by Public Law 84-759, 46 CFR part 350. Nothing in this notice or in the policy itself requires MARAD to exercise its discretionary authority under the law. This policy updates the existing program in which successful applicants may obtain official MARAD recognition of their service or contributions to the U.S. Merchant Marine.

Paperwork Reduction Act: Under the Paperwork Reduction Act of 1995 (PRA) (44 U.S.C. 3501-3520), a Federal agency must obtain approval from the Office of Management and Budget (OMB) for each collection of information it conducts, sponsors or requires through regulations. MARAD analyzed each provision of this policy and determined that it imposes no new requirements for recordkeeping and reporting. The existing information collection 2133-0506, expiration date: 1/31/2017, is sufficient and requires no changes.

Authority: Public Law 84-759, 46 CFR part 350, 46 U.S.C. 51901.

Dated: May 14, 2015.
By Order of the Maritime Administrator.
Thomas M. Hudson, Jr.,
Secretary, Maritime Administration.

[FR Doc. 2015-12088 Filed 5-20-15; 8:45 am]

BILLING CODE 4910-81-P